DEPARTMENT OF DEFENSE

Office of the Secretary

TRICARE, Formerly Known as the Civilian Health and Medical Program of the Uniformed Services (CHAMPUS); Fiscal Year 2011 Continued Health Care Benefit Program (CHCBP) Premium Update Mental Health Rate Updates

AGENCY: Office of the Secretary, DoD.

ACTION: Notice of updated Continued Health Care Benefit Program premiums for Fiscal Year 2011.

SUMMARY: This notice provides the updated Continued Health Care Benefit Program (CHCBP) premiums for Fiscal Year 2011.

DATES: The Fiscal Year 2011 rates contained in this notice are effective for services on or after October 1, 2010.

ADDRESSES: TRICARE Management Activity (TMA), Policy and Benefits Branch, 5111 Leesburg Pike, Suite 810A, Falls Church, VA 22041.

FOR FURTHER INFORMATION CONTACT: Mark A. Ellis, telephone (703) 681-0039.

SUPPLEMENTARY INFORMATION: The final rule published in the Federal Register on September 30, 1994, (59 FR 49818) set forth rules to implement the Continued Health Care Benefit Program (CHCBP) required by 10 United States Code 1078a. Included in this final rule were provisions for updating the CHCBP premiums for each federal Fiscal Year. As stated in the final rule, the premiums are based on Federal Employee Health Benefit Program employee and agency contributions required for a comparable health benefits plan, plus an administrative fee. Premiums may be revised annually and shall be published annually for each Fiscal Year.

The TRICARE Management Activity has updated the quarterly premiums for Fiscal Year 2011 as shown below.

Quarterly CHCBP Premiums for Fiscal Year 2011

Individual—$988.

Family—$2,213.

The above premiums are effective for services rendered on or after October 1, 2010 for both existing and new enrollees.

Dated: April 13, 2010.
Mitchell S. Bryman,
Alternate OSD Federal Register Liaison Officer, Department of Defense.

[FR Doc. 2010-8741 Filed 4-15-10; 8:45 am]

BILLING CODE 5001-06-P